SMALL BUSINESS ADMINISTRATION

[Disaster Declaration #11272]

Iowa Disaster Number IA-00016

AGENCY: U.S. Small Business Administration.

ACTION: Amendment 4.

SUMMARY: This is an amendment of the Presidential declaration of a major disaster for Public Assistance Only for the State of Iowa (FEMA-1763-DR), dated 05/27/2008.

Incident: Severe Storms, Tornadoes, and Flooding.

Incident Period: 05/25/2008 and continuing.

Effective Date: 06/27/2008.

Physical Loan Application Deadline Date: 07/28/2008.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the State of Iowa, dated 05/27/2008, is hereby amended to include the following areas as adversely affected by the disaster.

Primary Counties:

Cerro Gordo, Crawford, Dallas, Dubuque, Floyd, Davis, Des Moines, Henry, Lee, Lyon, Muscatine, Palo Alto, Harrison, Marion, Story, Tama, Union.

All other information in the original declaration remains unchanged.

(Catalog of Federal Domestic Assistance Number 59008)

Herbert L. Mitchell,
Associate Administrator for Disaster Assistance.

[FR Doc. E8-15990 Filed 7-11-08; 8:45 am]

BILLING CODE 8025-01-P